DEPARTMENT OF COMMERCE

Bureau of Industry and Security

15 CFR Part 744

[Docket No. 111027661-2429-02]

RIN 0694-AF43

Entity List Additions; Corrections

AGENCY: Bureau of Industry and Security, Commerce.

ACTION: Correcting amendments.

SUMMARY: This document corrects spelling errors in two final rules published by the Bureau of Industry and Security (BIS) amending the Export Administration Regulations (EAR) in April 2012. BIS published the first final rule in the Federal Register on Wednesday, April 18, 2012. That rule added three persons to the Entity List of the EAR (Supplement No. 1 to part 774). However, it misspelled the name and address for one of the persons added to the Entity List. This document corrects those errors.

BIS published a second final rule in the Federal Register on Friday, April 27, which added sixteen persons under eighteen entries to the Entity List. That rule misspelled the city used in the address for three of the persons added to the Entity List. This document corrects that error. Lastly, this document removes a hyphen in the address for one of the persons added to the Entity List in the April 27 final rule, to clarify it is an address and not an alias for that person added to the Entity List.

DATES: Effective Date: This rule is effective May 14, 2012.

FOR FURTHER INFORMATION CONTACT: Karen Nies-Vogel, Chair, End-User Review Committee, Office of the Assistant Secretary, Export Administration, Bureau of Industry and Security, Department of Commerce, Phone: (202) 482-5991, Fax: (202) 482- 3911, Email: ERC@bis.doc.gov.

SUPPLEMENTARY INFORMATION:

Background

Correcting Amendments to the April 18, 2012 Final Rule

On April 18, 2012, BIS published the final rule, “Addition of Certain Persons on the Entity List: Addition of Persons Acting Contrary to the National Security or Foreign Policy Interests of the United States” in the Federal Register (77 FR 23114). This amendment corrects two spelling errors: one error in the name and one error in the address of a person who was added to the Entity List in the April 18 final rule under the destination of Jordan.

The name and address of this person should have been listed as follows:

(1) Masoud Est. for Medical and Scientific Supplies,74 First Floor, Tla'a Al Ali Khali Al Salim Street, Amman, Jordan 11118.

Correcting Amendments to the April 27, 2012 Final Rule

On April 27, 2012, BIS published the final rule, “Addition of Certain Persons to the Entity List” in the Federal Register (77 FR 25055). This amendment corrects the spelling of the city of Sharjah, which was incorrectly spelled in the addresses for three of the persons added to the Entity List under the destination of United Arab Emirates. Lastly, this rule removes a hyphen from the address of a person who was added under the destination of Pakistan to clarify the text is the address of this person and not an alias.

The name and address of these four persons should have been listed as follows:

Pakistan

(1) Jalaluddin Haqqani, a.k.a., the following seven aliases:

—General Jalaluddin;

—Haqqani Sahib;

—Maulama Jalaluddin;

—Maulawi Haqqani;

—Molvi Sahib;

—Mulawi Jalaluddin; and

—Mullah Jalaluddin.

—Miram Shah, Pakistan.

United Arab Emirates

(1) Al Maskah Used Car and Spare Parts, Maliha Road, Industrial Area 6, Sharjah, U.A.E.;

(2) Feroz Khan, a.k.a., the following three aliases:

—Haaje Khan;

—Haaji Khan; and

—Firoz.

Maliha Road, Industrial Area 6, Sharjah, U.A.E.; and

(3) Zurmat General Trading, Office No. 205, Platinum Business Center, Baghdad Street, Al-Nahda 2, Al-Qusais, Dubai, U.A.E.; and P.O. Box No. 171452, Dubai, U.A.E.; and 1st Street, Industrial Area 4th, Sharjah, U.A.E. (Behind the Toyota Showroom), and P.O. Box 35470, Sharjah, U.A.E.

Although the Export Administration Act expired on August 20, 2001, the President, through Executive Order 13222 of August 17, 2001, 3 CFR, 2001 Comp., p. 783 (2002), as extended by the Notice of August 12, 2011, 76 FR 50661 (August 16, 2011), has continued the Export Administration Regulations in effect under the International Emergency Economic Powers Act.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. Pursuant to the Administrative Procedure Act (5 U.S.C. 553), BIS finds that there is good cause to waive the opportunity for public comment and delay in effective date for this correction. This action merely corrects clerical errors in the previous text that have no substantive affect. Because the corrections do not affect the substantive rights or obligations of any party, the public has little interest in the rule, and so prior notice and opportunity for comment are unnecessary. Accordingly, prior notice and opportunity for comment, as well as the delay in effectiveness of this rule, are hereby waived. Because a notice of proposed rulemaking and an opportunity for public comment are not required to be given for this rule by 5 U.S.C. 553, or by any other law, the analytical requirements of the Regulatory Flexibility Act, 5 U.S.C. 601 et seq., are not applicable.

List of Subject in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 12, 2011, 76 FR 50661 (August 16, 2011); Notice of September 21, 2011, 76 FR 59001 (September, 22, 2011); Notice of November 9, 2011, 76 FR 70319 (November 10, 2011); Notice of January 19, 2012, 77 FR 3067 (January 20, 2012).

2. Supplement No. 4 to part 744 is amended:

a. By revising under Jordan, in alphabetical order, one Jordanian entity;

b. By revising under Pakistan, in alphabetical order, one Pakistani entity; and

c. By revising under the United Arab Emirates, in alphabetical order, three Emirati entities.

The revisions read as follows:

Supplement No. 4 to Part 744—Entity List
Country | Entity | License requirement | License review policy | Federal Register citation
* * * * * * *
JORDAN | Masoud Est. for Medical and Scientific Supplies, 74 First Floor, Tla'a Al Ali Khali Al Salim Street, Amman, Jordan 11118. | For all items subject to the EAR. (See § 744.11 of the EAR). | Presumption of denial | 77 FR 23114, 4/18/12.
* * * * * * *
PAKISTAN
* * * * * * *
| Jalaluddin Haqqani, a.k.a., the following seven aliases: —General Jalaluddin; | For all items subject to the EAR. (See § 744.11 of the EAR). | Presumption of denial | 77 FR 25055, 4/27/12.
| —Haqqani Sahib;
| —Maulama Jalaluddin;
| —Maulawi Haqqani;
| —Molvi Sahib;
| —Mulawi Jalaluddin; and
| —Mullah Jalaluddin.
| Miram Shah, Pakistan.
* * * * * * *
UNITED ARAB EMIRATES
* * * * * * *
| Al Maskah Used Car and Spare Parts, Maliha Road, Industrial Area 6, Sharjah, U.A.E. | For all items subject to the EAR. (See § 744.11 of the EAR). | Presumption of denial | 77 FR 25055, 4/27/12.
* * * * * * *
| Feroz Khan, a.k.a., the following three aliases: —Haaje Khan; —Haaji Khan; and | For all items subject to the EAR. (See § 744.11 of the EAR). | Presumption of denial | 77 FR 25055, 4/27/12.
| —Firoz.
| Maliha Road, Industrial Area 6, Sharjah, U.A.E.
* * * * * * *
| Zurmat General Trading, Office No. 205, Platinum Business Center, Baghdad Street, Al-Nahda 2, Al-Qusais, Dubai, U.A.E.; and P.O. Box No. 171452, Dubai, U.A.E.; and 1st Street, Industrial Area 4th, Sharjah, U.A.E. (Behind the Toyota Showroom), and P.O. Box 35470, Sharjah, U.A.E. | For all items subject to the EAR. (See § 744.11 of the EAR). | Presumption of denial | 77 FR 25055, 4/27/12.
* * * * * * *

Dated: May 8, 2012.
Bernard Kritzer,
Director, Office of Exporter Services.

[FR Doc. 2012-11555 Filed 5-11-12; 8:45 am]

BILLING CODE 3510-33-P